DEPARTMENT OF DEFENSE

GENERAL SERVICES ADMINISTRATION

NATIONAL AERONAUTICS AND SPACE ADMINISTRATION

[OMB Control No. 9000-0018; Docket 2014-0055; Sequence 8]

Information Collection; Federal Acquisition Regulation; Certification of Independent Price Determination and Parent Company and Identifying Data

AGENCY: Department of Defense (DOD), General Services Administration (GSA), and National Aeronautics and Space Administration (NASA).

ACTION: Notice of request for public comments regarding an extension to an existing OMB clearance.

SUMMARY: Under the provisions of the Paperwork Reduction Act (44 U.S.C. chapter 35), the Regulatory Secretariat Division (MVCB) will be submitting to the Office of Management and Budget (OMB) a request to review and approve an extension of a currently approved information collection requirement concerning certification of independent price determination and parent company and identifying data.

DATES: Submit comments on or before June 13, 2014.

ADDRESSES: Submit comments identified by Information Collection 9000-0018, CERTIFICATION OF INDEPENDENT PRICE DETERMINATION AND PARENT COMPANY AND IDENTIFYING DATA by any of the following methods:

• Regulations.gov: http://www.regulations.gov. Submit comments via the Federal eRulemaking portal by searching the OMB control number 9000-0018. Select the link “Comment Now” that corresponds with “Information Collection 9000-0018, Certification of Independent Price Determination and Parent Company and Identifying Data.” Follow the instructions provided on the screen. Please include your name, company name (if any), and “Information Collection 9000-0018, Certification of Independent Price Determination and Parent Company and Identifying Data” on your attached document.

• Fax: 202-501-4067.

• Mail: General Services Administration, Regulatory Secretariat Division (MVCB), 1800 F Street NW., Washington, DC 20405. ATTN: Ms. Flowers/IC 9000-0018.

Instructions: Please submit comments only and cite Information Collection 9000-0018, in all correspondence related to this collection. All comments received will be posted without change to http://www.regulations.gov, including any personal and/or business confidential information provided.

FOR FURTHER INFORMATION CONTACT: Mr. Marissa Petrusek, Procurement Analyst, Contract Policy Branch, GSA 202-501-0136 or email marissa.petrusek@gsa.gov.

SUPPLEMENTARY INFORMATION:

A. Purpose

As a first step in assuring that Government contracts are not awarded to firms violating anti-trust laws, offerors on Government contracts must complete the certificate of independent price determination. The Contracting Officer will reject certificates where the offeror has deleted or modified portions of the certificate and has not furnished with the certificate a signed statement of the circumstances of disclosure of prices. Agencies are required to report to the Attorney General rejected offers where the offeror deleted or modified the certificate or the certificate is suspected of being false.

The information collection is required each time an offeror responds to a solicitation for firm-fixed price contract or fixed-price economic price adjustment contract unless the acquisition is (1) made under the simplified acquisition threshold; (2) at the request for technical proposals under two-step sealed bidding procedures; or (3) for utility services for which rates are set by law or regulation. The FAR rule requires a Certificate of Independent Price Determination so that contractors certify that the prices in their offer have been arrived at independently, have not been or will not be knowingly disclosed, and have not been submitted for the purpose of restricting competition. This clause does not apply to commercial items.

B. Annual Reporting Burden

A reassessment of FAR 3.103 and FAR 52.203-2 was performed. Based on the comprehensive reassessment performed, this information collection resulted in a slight decrease in the annual number of responses and an increase in the annual time burden from the previous information collection that was published in the Federal Register at 76 FR 37353 on June 27, 2011. The decrease in the annual number of responses is likely a result of updated data for Fiscal Year (FY) 2013 from the Federal Procurement Data System (FPDS). The increase in the annual time burden from the previous information collection increases the amount of time to research and prepare the certification from .01 hours (less than one minute) to .25 hours (15 minutes). No public comments were received in prior years that have challenged the validity of the Government's estimate. Updates were made to the average wages and overhead based on FY 2013 Office of Personnel Management and Office of Management and Budget rates.

Respondents: 13,486.

Responses per Respondent: 76.

Total Responses: 1,024,936.

Hours per Response: .25.

Total Burden hours: 256,234.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405. ATTN: Ms. Flowers/IC 9000-0018, telephone 202-501-4755. Please cite OMB Control No. 9000-0018, Certification of Independent Price Determination and Parent Company and Identifying Data, in all correspondence.

Dated: April 8, 2014.
Karlos Morgan,
Acting Director, Federal Acquisition Policy Division, Office of Government-wide Acquisition Policy, Office of Acquisition Policy, Office of Government-wide Policy.

[FR Doc. 2014-08255 Filed 4-11-14; 8:45 am]

BILLING CODE 6820-EP-P